DEPARTMENT OF TRANSPORTATION

Federal Aviation Administration

[Summary Notice No. PE-2001-88]

Petitions for Exemption; Summary of Dispositions of Petitions Issued

AGENCY: Federal Aviation Administration (FAA), DOT.

ACTION: Notice of Dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1) Federal Aviation Administration, 800 Independence Avenue, SW., Washington, DC 20591.

This notice is published pursuant to 14 CFR 11.85 and 11.91.

Issued in Washington, DC, on October 24, 2001.
Donald P. Byrne,
Assistant Chief Counsel for Regulations.

Dispositions of Petitions

Docket No.: FAA-2001-10841.

Petitioner: Great Rivers Pilots Association.

Section of 14 CFR Affected: 14 CFR 135.251, 135.255, 135.353, and appendixes I and J to part 121.

Description of Relief Sought/Disposition: To permit GRPA to conduct local sightseeing flights at Pittsfield Penstone Municipal Airport for the Pike County Color Drive Fly In during October 2001, for compensation or hire, without complying with certain anti-drug and alcohol misuse prevention requirements of part 135. Grant, 10/17/2001, Exemption No. 7646

Docket No.: FAA-2001-10850.

Petitioner: Western North Carolina Pilots Association, Inc.

Section of 14 CFR Affected: 14 CFR 135.251, 135.255, 135.353, and appendixes I and J to part 121.

Description of Relief Sought/Disposition: To permit WNCPA to conduct local sightseeing flights at Asheville Regional Airport for Fall Color Scenic Rides during October 2001, for compensation or hire, without complying with certain anti-drug and alcohol misuse prevention requirements of part 135. Grant, 10/17/2001, Exemption No. 7645

Docket No.: FAA-2001-10357.

Petitioner: Executive Aviation Logistics, Inc.

Section of 14 CFR Affected: 14 CFR 135.152.

Description of Relief Sought/Disposition: To permit EAL to operate its 1975 Gulfstream American Gulfstream II airplane (serial No. 173) under part 135 without the airplane being equipped with an approved digital flight data recorder. Grant, 10/16/2001, Exemption No. 7643

Docket No.: FAA-2001-9787.

Petitioner: Alpine Aviation, Inc., dba Alpine Air.

Section of 14 CFR Affected: 14 CFR 61.51(f).

Description of Relief Sought/Disposition: To permit Alpine Air pilots to log second-in command flight time for cargo flights under instrument flight rules in certain multiengine aircraft when more than one pilot is not required by either the aircraft type certificate or the regulations under which the flight is conducted. Denial, 10/16/2001, Exemption No. 7642

Docket No.: FAA-2001-10761.

Petitioner: Mr. Mark Fryburg.

Section of 14 CFR Affected: 14 CFR 135.251, 135.255, 135.353, and appendixes I and J to part 121.

Description of Relief Sought/Disposition: To permit Mr. Fryburg to conduct local sightseeing flights in the vicinity of Portland, Oregon, for compensation or hire, without complying with certain anti-drug and alcohol misuse prevention requirements of part 135. The flights will be auctioned on October 27, 2001, to benefit the Unitarian-Universalist Community Church of Washington County. The flights are expected to occur between October 28, 2001, and December 31, 2001. Grant, 10/17/2001, Exemption No. 7647

[FR Doc. 01-27163 Filed 10-26-01; 8:45 am]

BILLING CODE 4910-13-M